DEPARTMENT OF DEFENSE

Department of the Air Force

ICWG Meeting for the NAVSTAR GPS Public Signals in Space

AGENCY: The United States Air Force.

ACTION: Meeting Notice.

SUMMARY: The Public Interface Control Working Group (ICWG) will meet September 5-6, 2012 to discuss the NAVSTAR GPS public Signals in Space (SiS) documents; IS-GPS-200 (Navigation User Interfaces), IS-GPS-705 (User Segment L5 Interfaces), and IS-GPS-800 (User Segment L1C Interface. The purpose of this meeting will be twofold: (1) To resolve the comments against the public signals-in-space (SiS) documents with respect to the two issues outlined below, and (2) to collect issues/comments outside the scope of the issues outlined below for analysis and possible integration into the following release. The ICWG is open to the general public. For those who would like to attend and participate in this ICWG meeting, we request that you register no later than August, 6 2012.

FOR FURTHER INFORMATION CONTACT: Please send the registration to mark.marquez.ctr@losangeles.af.mil and provide your name, organization, telephone number, address, and country of citizenship.

Please note that the Directorate's primary focus will be the disposition of the comments against the following GPS related topics:

—Public Signals-in-Space (SiS) updates

—L1C Phase Noise

All comments must be submitted in Comments Resolution Matrix (CRM) form. These forms along with the Was/Is Matrix, current versions of the documents, and the official meeting notice will be posted at: http://www.gps.gov/technical/icwg/.

Comments outside the scope of the above issues will be collected, catalogued, and discussed during the public ICWG as potential inclusions to the version following this release. If accepted, these changes will be processed through the formal Directorate change process for IS-GPS-200, IS-GPS-705, and IS-GPS-800.

Please provide them in the CRM form and submit to Tony Marquez by July 20, 2012.

Public Interface Control Working Group Meeting (ICWG)

Date(s) and Times: 5-6 Sep 2012 (0800-1700) (Pacific Standard Time P.S.T). Dial-in Information and Location: 1-800-366-7242, Code: 1528652.

Address: SAIC Facility 300 North Sepulveda Blvd., 2nd Floor, Conference Room 2060 El Segundo CA 90245.

• Identification will be required at the entrance of the SAIC facility (Passport, state ID, or Federal ID) SAIC Facility phone number: 310-416-8300.

Henry Williams, Jr.,
Acting Air Force Federal Register Liaison Officer.

[FR Doc. 2012-15323 Filed 6-21-12; 8:45 am]

BILLING CODE 5001-10-P